EQUAL EMPLOYMENT OPPORTUNITY COMMISSION

Sunshine Act Notice

TIME AND DATE: Tuesday, May 17, 2022, 10:30 a.m. Eastern Time.

PLACE: Because of the COVID-19 pandemic, the meeting will be held as a live streamed videoconference, with an option for listen-only audio dial-in by telephone. The public may observe the videoconference or connect to the audio-only dial-in by following the instructions that will be posted on www.eeoc.gov 24 hours before the meeting. Closed captioning and ASL services will be available.

MATTERS TO BE CONSIDERED: The following item will be considered at the meeting:

Knocking Down Walls: Discrimination and Harassment in Construction.

Note: In accordance with the Sunshine Act, the public will be able to observe the Commission's deliberations and voting. (In addition to publishing notices on EEOC Commission meetings in the Federal Register, the Commission also provides information about Commission meetings on its website, www.eeoc.gov, and provides a recorded announcement a week in advance on future Commission meetings.)

Please telephone (202) 921-2750, or email commissionmeetingcomments@eeoc.gov at any time for information on this meeting.

CONTACT PERSON FOR MORE INFORMATION: Shelley Kahn, Acting Executive Officer, (202) 921-3061.

Dated: May 3, 2022.
Shelley Kahn,
Acting Executive Officer, Executive Secretariat.

[FR Doc. 2022-09744 Filed 5-3-22; 11:15 am]

BILLING CODE 6570-01-P